DEPARTMENT OF DEFENSE

Department of the Navy

[Docket ID: USN-2014-0009]

Privacy Act of 1974; System of Records

AGENCY: Department of the Navy, DoD.

ACTION: Notice to alter a System of Records.

SUMMARY: The Department of the Navy proposes to alter the system of records, NM05512-2, Badge and Access Control System Records, in its inventory of record systems subject to the Privacy Act of 1974, as amended. This system will be used to control physical access to DoD, Department of the Navy (DON) or U.S. Marine Corps Installations/Units controlled information, installations, facilities, or areas over which DoD, DON or USMC has security responsibilities by identifying or verifying an individual through the use of biometric databases and associated data processing/information services for designated populations for purposes of protecting U.S./Coalition/allied government/national security areas of responsibility and information; to issue badges, replace lost badges and retrieve passes upon separations; to maintain visitor statistics; collect information to adjudicate access to facility; and track the entry/exit times of personnel.

DATES: Comments will be accepted on or before May 9, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Web site at http://dpclo.defense.gov/.

The proposed system report, as required by 5 U.S.C. 552a(r) of the Privacy Act of 1974, as amended, was submitted on March 12, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 3, 2014.
Aaron Siegel,
Alternate OSD Federal Register Liaison Officer, Department of Defense.

NM05512-2

System name:

Badge and Access Control System Records (May 6, 2010, 75 FR 24932).

Changes:

* * * * *

System location:

Delete entry and replace with “All organization elements of the Department of the Navy. Official mailing addresses are published in the Standard Navy Distribution List available as an appendix to the Navy's compilation of system of records notices or may be obtained from the system manager.”

* * * * *

Categories of records in the system:

Delete entry and replace with “Name, Social Security Number (SSN), case number, visit requests for permission to transact commercial business, visitor clearance data for individuals to visit a Navy/Marine Corps base/activity/contractor facility, barring lists and letters of exclusion, badge/pass issuance records, information that reflects time of entry/exit from facility, physical description including height/weight/hair color/eye color, biometric data including, images and templates for fingerprints, iris, face and hand geometry; citizenship, date and place of birth, gender, passport number, identification card issue and expiration dates, government-issued and personal weapons registration information to include type, serial number, manufacturer, caliber, firearm registration date, and storage location data to include unit, room, building and phone number, vehicle information, such as manufacturer, model, year, color and vehicle type, vehicle identification number (VIN), license plate type and number, decal number, current registration, automobile insurance data and driver's license data, DoD ID Number or credential barcode, home and work addresses, marital status, home and work telephone numbers, and home and work email address(es).”

Authority for maintenance of the system:

Delete entry and replace with “10 U.S.C. 5013, Secretary of the Navy; 10 U.S.C. 5041, Headquarters, Marine Corps; OPNAVINST 5530.14E, Navy Physical Security and Law Enforcement Program; Marine Corps Order P5530.14, Marine Corps Physical Security Program Manual; and E.O. 9397 (SSN), as amended.”

* * * * *

Routine uses of records maintained in the system, including categories of users and the purpose of such uses:

Delete entry and replace with “In addition to those disclosures generally permitted under 5 U.S.C. 552a(b) of the Privacy Act of 1974, as amended, these records contained therein may specifically be disclosed outside the DoD as a routine use pursuant to 5 U.S.C. 552a(b)(3) as follows:

To designated contractors, Federal agencies, and foreign governments for the purpose of granting Department of the Navy officials access to their facility.

The DoD Blanket Routine Uses set forth at the beginning of the Department of Navy's compilation of system of records notices may apply to this system.”

* * * * *

Retrievability:

Delete entry and replace with “Name, SSN, biometric template, (fingerprints, face and iris scan), case number, company's name, DoD Identification number, and registered vehicle.”

* * * * *

Retention and disposal:

Delete entry and replace with “Badges and passes are destroyed three months after return to issuing office. Records of issuance are destroyed six months after new accountability system is established or one year after final disposition of each issuance record is entered in retention log or similar record, whichever is earlier. Visit request records are destroyed two years after final entry or two years after date of document, whichever is later. Collection forms, paper and/or plastic badges/passes are shredded or incinerated using DOD approved procedures. If any IT system or data storage media fails and must be replaced, the data storage component (e.g., disks/hard drives) is removed from the hardware and degaussed with DOD approved degaussing systems and are then mechanically shredded prior to disposal.”

* * * * *

Notification procedure:

Delete entry and replace with “Individuals seeking to determine whether information about themselves is contained in this system should address written inquiries to the Commanding Officer of the activity in question. Official mailing addresses are published in the Standard Navy Distribution List available as an appendix to the Navy's compilation of system of records notices or may be obtained from the system manager.

For verification purposes, individual should provide full name, SSN and/or DoD ID Number, sufficient details to permit locating pertinent records and notarized signature. Failure to provide a notarized document may result in your request not being processed.”

Record access procedures:

Delete entry and replace with “Individuals seeking access to records about themselves contained in this system should address written inquiries to Commanding Officer of the activity in question or the local Provost Marshals Office at United States Marine Corps installation/units. Official mailing addresses are published in the Standard Navy Distribution List available as an appendix to the Navy's compilation of system of records notices or may be obtained from the system manager.

For verification purposes, individual should provide full name, SSN and/or DoD ID Number, sufficient details to permit locating pertinent records and notarized signature. Failure to provide a notarized document may result in your request not being processed.”

* * * * *

[FR Doc. 2014-07843 Filed 4-8-14; 8:45 am]

BILLING CODE 5001-06-P